DEPARTMENT OF THE INTERIOR

Bureau of Land Management

[AK-963-1430-ET; F-81469, F-81490]

Notice of Proposed Withdrawal Extension and Opportunity for Public Meeting; Alaska

AGENCY: Bureau of Land Management, Interior.

ACTION: Notice.

SUMMARY: On behalf of the U.S. Department of Commerce, National Oceanic and Atmospheric Administration and the U.S. Geological Survey, the Assistant Secretary of the Interior for Land and Minerals Management proposes to extend the duration of Public Land Order (PLO) No. 2344, as modified by PLO No. 6839, for an additional 20-year period. These PLOs transferred jurisdiction of approximately 171 acres of public land withdrawn for the Naval Arctic Research Laboratory near Barrow, Alaska from the Department of the Navy to the National Oceanic and Atmospheric Administration and the U.S. Geological Survey, and withdrew an additional 45 acres of public land on behalf of these agencies for the Barrow Base Line Observatory and the Barrow Magnetic Observatory. This notice also gives an opportunity to comment on the proposed action.

DATES: Comments must be received by October 13, 2010.

ADDRESSES: Comments and meeting requests should be sent to the Alaska State Director, BLM Alaska State Office, 222 West 7th Avenue, No. 13, Anchorage, Alaska 99513-7504.

FOR FURTHER INFORMATION CONTACT: Robert L. Lloyd, BLM Alaska State Office, 907-271-4682 or at the address above.

SUPPLEMENTARY INFORMATION: The withdrawal created by PLO No. 2344 (26 FR 3701, (1961)), as modified by PLO No. 6839 (56 FR 13413, (1991)), will expire on April 1, 2011, unless extended. The U.S. Department of Commerce, National Oceanic and Atmospheric Administration and the U.S. Geological Survey have filed applications to extend the withdrawal for an additional 20-year period to continue protection of the facilities at the Barrow Base Line Observatory and the Barrow Magnetic Observatory.

This withdrawal comprises approximately 216 acres of public land located within U.S. Survey No. 5253 in secs. 23 and 26, T. 23 N., R. 18 W., Umiat Meridian, and is described in PLO No. 2344 (26 FR 3701, (1961)), as modified by PLO No. 6839 (56 FR 13413, (1991)). A complete description, along with all other records pertaining to the extension application, can be examined in the BLM Alaska State Office at the address listed in the ADDRESSES section of this notice.

The use of a right-of-way or interagency or cooperative agreement would not adequately protect the Federal investment in the Barrow Base Line Observatory and the Barrow Magnetic Observatory.

There are no suitable alternative sites available since the Barrow Base Line Observatory and the Barrow Magnetic Observatory are already constructed on the above-referenced public land.

No water rights would be needed to fulfill the purpose of the requested withdrawal extension.

For a period of 90 days from the date of publication of this notice, all persons who wish to submit comments, suggestions, or objections in connection with the proposed withdrawal extension may present their views in writing to the BLM Alaska State Director at the address in the ADDRESSES section of this notice. Before including your address, phone number, e-mail address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public inspection in their entirety.

Notice is hereby given that an opportunity for a public meeting is afforded in connection with the proposed withdrawal extension. All interested parties who desire a public meeting for the purpose of being heard on the proposed withdrawal extension must submit a written request to the BLM Alaska State Director by October 13, 2010. Upon determination by the authorized officer that a public meeting will be held, a notice of the time and place will be published in the Federal Register and at least one local newspaper at least 30 days before the scheduled date of the meeting.

The withdrawal extension proposal will be processed in accordance with the regulations set forth in 43 CFR 2310.4 and subject to Section 204 of the Federal Land Policy and Management Act of 1976, 43 U.S.C. 1714 and subject to Section 810 of the Alaska National Interest Lands Conservation Act, 16 U.S.C. 3120.

Authority: 43 CFR 2310.3-1.

Dated: July 1, 2010.
Robert L. Lloyd,
Branch Chief, Alaska Lands and Transfer Adjudication, Division of Alaska Lands.

[FR Doc. 2010-17232 Filed 7-14-10; 8:45 am]

BILLING CODE 3510-KD-P